POSTAL SERVICE

Board of Governors; Sunshine Act Meeting

DATES AND TIMES: Thursday, November 11, 2010, at 10:30 a.m.; and Friday, November 12, at 8:30 a.m. and 11:30 a.m.

PLACE: Washington, DC, at U.S. Postal Service Headquarters, 475 L'Enfant Plaza, SW., in the Benjamin Franklin Room.

STATUS: Thursday, November 11 at 10:30 a.m.—Closed; Friday, November 12 at 8:30 a.m.—Open; and at 11:30 a.m.—Closed

MATTERS TO BE CONSIDERED:

Thursday, November 11 at 10:30 a.m. (Closed)

1. Strategic Issues

2. Financial Matters

3. Pricing

4. Personnel Matters and Compensation Issues

5. Governors' Executive Session—Discussion of prior agenda items and Board Governance

Friday, November 12 at 8:30 a.m. (Open)

1. Approval of Minutes of Previous Meetings

2. Remarks of the Chairman of the Board

3. Remarks of the Postmaster General and CEO

4. Committee Reports

5. Consideration of Fiscal Year 2010 10K, Financial Statements, and Postal Service Annual Report

6. Consideration of Fiscal Year 2011 Integrated Financial Plan

7. Consideration of Final Fiscal Year 2012 Appropriation Request

8. Consideration of Fiscal Year 2010 Comprehensive Statement and Annual Performance Plan

9. Quarterly Report on Service Performance

10. Tentative Agenda for the December 6-7, 2010, meeting in Washington, DC

11. Election of Chairman and Vice Chairman of the Board of Governors

Friday, November 12 at 11:30 a.m. (Closed—if needed)

1. Continuation of Thursday's closed session agenda

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2010-27653 Filed 10-28-10; 4:15 pm]

BILLING CODE 7710-12-P